DEPARTMENT OF COMMERCE

International Trade Administration

[A-552-801]

Certain Frozen Fish Fillets From the Socialist Republic of Vietnam: Amended Final Results of Antidumping Duty Administrative Review; 2011-2012

AGENCY: Enforcement and Compliance, International Trade Administration, Department of Commerce.

SUMMARY: The Department of Commerce (“the Department”) is amending the final results of the ninth administrative review on certain frozen fish fillets (“fish fillets”) from the Socialist Republic of Vietnam (“Vietnam”) to correct certain ministerial errors.¹ The period of review (“POR”) is August 1, 2011, through July 31, 2012.

¹ See Certain Frozen Fish Fillets from the Socialist Republic of Vietnam: Final Results of Antidumping Duty Administrative Review and New Shipper Review; 2011-2012, 79 FR 19053 (April 7, 2014) (“Final Results”).

DATES: Effective Date: July 2, 2014.

FOR FURTHER INFORMATION CONTACT: Paul Walker (Hung Vuong Group) or Julia Hancock (Vinh Hoan), AD/CVD Operations, Office V, Enforcement and Compliance, International Trade Administration, U.S. Department of Commerce, 14th Street and Constitution Avenue NW., Washington, DC 20230; telephone 202-482-0413 or 202-482-1394, respectively.

SUPPLEMENTARY INFORMATION:

Background

On April 2, 2014 the Department disclosed to interested parties its calculations for the Final Results. On April 7, 2014 we received ministerial error comments from Vinh Hoan Corporation and the Hung Vuong Group (“HVG”). On April 29, 2014 Vinh Hoan submitted an additional ministerial error comment, which was rejected as it was an untimely submission.²

² See the Department's letter to Vinh Hoan Corporation, “Ninth Administrative Review of Certain Frozen Fish Fillets from the Socialist Republic of Vietnam: Alleged Untimely Ministerial Error Submission,” dated April 30, 2014.

Scope of the Order

For a full description of the products covered by the antidumping duty order, see the Memorandum to Paul Piquado, Assistant Secretary, Enforcement and Compliance, from Gary Taverman, Senior Advisor, “Ninth Administrative Review of Certain Frozen Fish Fillets from the Socialist Republic of Vietnam: Ministerial Error Allegations Memorandum,” dated concurrently with and hereby adopted by this notice (“Ministerial Error Memo”).

Ministerial Errors

Section 751(h) of the Tariff Act of 1930, as amended (“the Act”), and 19 CFR 351.224(f) define a “ministerial error” as an error “in addition, subtraction, or other arithmetic function, clerical error resulting from inaccurate copying, duplication, or the like, and any similar type of unintentional error which the Secretary considers ministerial.” After analyzing the ministerial error comments, we determine, in accordance with section 751(h) of the Act and 19 CFR 351.224(e), that we made the following ministerial errors in our calculations for the Final Results: (a) We inadvertently miscalculated a portion of HVG's international freight; and (b) we inadvertently miscalculated Vinh Hoan Corporation's fish oil by-product offset. For a detailed discussion of these ministerial errors, as well as the Department's analysis, see the Ministerial Error Memo.³

³ The correction of these ministerial errors will not affect the final results with respect to new shipper Golden Quality Seafood Corporation. See Ministerial Error Memo.

In accordance with section 751(h) of the Act and 19 CFR 351.224(e), we are amending the Final Results of the administrative review of fish fillets from Vietnam. The revised weighted-average dumping margins are detailed below.

⁴ In the third administrative review of this order, the Department determined that it would calculate per-unit assessment and cash deposit rates for all future reviews. See Certain Frozen Fish Fillets from the Socialist Republic of Vietnam: Final Results of Antidumping Duty Administrative Review and Partial Rescission, 73 FR 15479 (March 24, 2008).

Amended Final Results of the Administrative Review

The amended weighted-average dumping margins for the administrative review are as follows:

⁵ This rate is applicable to the Vinh Hoan Group which includes: Vinh Hoan, Van Duc, and VDTG. In the sixth administrative review of this order, the Department found Vinh Hoan, Van Duc, and VDTG to be a single entity and, because there have been no changes to this determination since that administrative review, we continue to find these companies to be part of a single entity. Therefore, we will assign this rate to the companies in the single entity. See Certain Frozen Fish Fillets From the Socialist Republic of Vietnam: Notice of Preliminary Results and Partial Rescission of the Sixth Antidumping Duty Administrative Review and Sixth New Shipper Review, 75 FR 56061 (September 15, 2010).

⁶ This rate is applicable to the Hung Vuong Group, which includes: An Giang Fisheries Import and Export Joint Stock Company, Asia Pangasius Company Limited, Europe Joint Stock Company, Hung Vuong Joint Stock Company, Hung Vuong Mascato Company Limited, Hung Vuong—Vinh Long Co., Ltd., and Hung Vuong—Sa Dec Co., Ltd.

⁷ Includes the trade name Anvifish Co., Ltd. and Anvifish JSC.

Exporter | Weighted- average margin (dollars/ kilogram (“kg”)) ⁴
Vinh Hoan Corporation ⁵ | 0.00
Hung Vuong Group ⁶ | 1.20
An My Fish Joint Stock Company | 1.20
Anvifish Joint Stock Company ⁷ | 1.20
Asia Commerce Fisheries Joint Stock Company | 1.20
Binh An Seafood Joint Stock Company | 1.20
Cadovimex II Seafood Import-Export and Processing Joint Stock Company | 1.20
Cantho Import-Export Seafood Joint Stock Company | 1.20
Cuu Long Fish Import-Export Corporation ⁸ | 1.20
Cuu Long Fish Joint Stock Company | 1.20
East Sea Seafoods Limited Liability Company ⁹ | 1.20
Green Farms Seafood Joint Stock Company | 1.20
Hiep Thanh Seafood Joint Stock Company | 1.20
Hoa Phat Seafood Import-Export and Processing JSC | 1.20
International Development & Investment Corporation | 1.20
NTSF Seafoods Joint Stock Company | 1.20
QVD Food Company Ltd. ¹⁰ | 1.20
Saigon Mekong Fishery Co., Ltd. | 1.20
Seafood Joint Stock Company No.4 Branch Dongtam Fisheries Processing Company | 1.20
Southern Fishery Industries Company Ltd. | 1.20
Sunrise Corporation | 1.20
Thien Ma Seafood Co., Ltd. | 1.20
To Chau Joint Stock Company | 1.20
Viet Phu Food & Fish Corporation | 1.20
Vinh Quang Fisheries Corporation | 1.20
Vietnam-Wide Rate ¹¹ | 2.11

Disclosure

We will disclose the calculations performed for these amended final results to interested parties within five days of the date of publication of this notice in accordance with 19 CFR 351.224(b).

⁸ Includes the trade name CL Panga Fish.

⁹ Includes the trade names East Sea Seafoods LLC and ESS.

¹⁰ This rate is also applicable to QVD Dong Thap Food Co., Ltd and Thuan Hung Co., Ltd. (“THUFICO”). In the second review of this order, the Department found QVD, QVD Dong Thap Food Co., Ltd. and THUFICO to be a single entity and, because there have been no changes to this determination since that administrative review, we continue to find these companies to be part of a single entity. Therefore, we will assign this rate to the companies in the single entity. See Certain Frozen Fish Fillets from the Socialist Republic of Vietnam: Preliminary Results of Antidumping Duty Administrative Review, 71 FR 53387 (September 11, 2006).

¹¹ The Vietnam-wide rate includes the following companies which are under review, but which did not submit a separate rate application or certification: East Sea Seafood Co., Ltd., East Sea Seafoods Joint Venture Co., Ltd., Hung Vuong Seafood Joint Stock Company, Nam Viet Company Limited, and Vinh Hoan Company Ltd.

Assessment Rates

Pursuant to section 751(a)(2)(A) of the Act and 19 CFR 351.212(b), the Department will determine, and U.S. Customs and Border Protection (“CBP”) shall assess, antidumping duties on all appropriate entries of subject merchandise in accordance with the amended final results of this review. The Department intends to issue appropriate assessment instructions directly to CBP 15 days after publication of the amended final results of this administrative review.

For assessment purposes, we calculated importer (or customer)-specific assessment rates for merchandise subject to this review. We will continue to direct CBP to assess importer-specific assessment rates based on the resulting per-unit (i.e., per-kg) rates by the weight in kg of each entry of the subject merchandise during the POR. Specifically, we calculated importer-specific duty assessment rates on a per-unit rate basis by dividing the total dumping margins (calculated as the difference between normal value and export price, or constructed export price) for each importer by the total sales quantity of subject merchandise sold to that importer during the POR. If an importer (or customer)-specific assessment rate is de minimis (i.e., less than 0.50 percent), the Department will instruct CBP to assess that importer (or customer's) entries of subject merchandise without regard to antidumping duties, in accordance with 19 CFR 351.106(c)(2).

Cash Deposit Requirements

The following cash deposit requirements are effective as of April 7, 2014, the date of publication of the Final Results, for all shipments of the subject merchandise entered, or withdrawn from warehouse, for consumption, as provided for by section 751(a)(2)(C) of the Act: (1) The cash deposit rate for the exporters listed above are the rates established in the amended final results of review; (2) for previously investigated or reviewed Vietnamese and non-Vietnamese exporters not listed in the Final Results or these amended final results that have separate rates, the cash deposit rate will continue to be the exporter-specific rate published for the most recent period; (3) for all Vietnamese exporters of subject merchandise which were not found to be entitled to a separate rate in the Final Results or these amended final results, the cash deposit rate will be the Vietnam-wide rate of 2.11 U.S. dollars/kg; and (4) for all non-Vietnamese exporters of subject merchandise which have not received their own rate, the cash deposit rate will be the rate applicable to the Vietnamese exporters that supplied that non-Vietnamese exporter. These deposit requirements shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

These amended final results are published in accordance with sections 751(h) and 777(i)(1) of the Act.

Dated: May 9, 2014.
Paul Piquado,
Assistant Secretary for Enforcement and Compliance.

[FR Doc. 2014-15559 Filed 7-1-14; 8:45 am]

BILLING CODE 3510-DS-P